DEPARTMENT OF THE INTERIOR

Bureau of Land Management

[LLWYP06000.LL13100000.DB0000]

Notice of Intent To Prepare an Environmental Impact Statement and Amendments to the Casper Resource Management Plan and Thunder Basin National Grasslands Land and Resource Management Plan, Converse County, WY

AGENCY: Bureau of Land Management, Interior and United States Forest Service, Agriculture.

ACTION: Notice.

SUMMARY: The Bureau of Land Management and the United States Forest Service intend to prepare an Environmental Impact Statement for the proposed Converse County Oil and Gas Project; We may also prepare land-use plan amendments to the Casper Resource Management Plan and the Thunder Basin National Grassland Land Resource Management Plan. We are announcing the beginning of the scoping process to solicit public comments and identify issues. The Bureau of Land Management is the lead agency for the Environmental Impact Statement and the United States Forest Service is participating as a cooperating agency.

DATES: Comments on issues may be submitted in writing until June 30, 2014 In order to be included in the analysis, all comments must be received prior to the close of the 30-day scoping period or 15 days after the last public meeting, whichever is later. The BLM will provide additional opportunities for public participation as appropriate. The dates and locations of any scoping meetings will be announced at least 15 days in advance through the local news media, newspapers, and the Bureau of Land Management (BLM) Web site at: http://www.blm.gov/wy/st/en/field_offices/Casper.html.

ADDRESSES: You may submit written comments by any of the following methods:

• Web site: www.blm.gov/wy/st/en/field_offices/Casper.html.

• Email: blm_wy_casper_wymail@blm.gov.

• Fax: 307-261-7587.

• Mail: Converse County Oil and Gas Project, BLM Casper Field Office, 2987 Prospector Drive, Casper, WY 82604.

Documents pertinent to this proposal are available for public review at the BLM Casper Field Office or the United States Forest Service (USFS) Douglas Ranger District Office, 2250 East Richards Street, Douglas, Wyoming.

FOR FURTHER INFORMATION CONTACT: Kathleen Lacko, Assistant Field Manager, telephone: 307-261-7530; address: 2987 Prospector Drive, Casper, WY 82604; email: blm_wy_casper_wymail@blm.gov. Persons who use a telecommunications device for the deaf (TDD) may call the Federal Information Relay Service (FIRS) at 1-800-877-8339 to contact Ms. Lacko during normal business hours. The FIRS is available 24 hours a day, 7 days a week, to leave a message or question with the above individual. You will receive a reply during normal business hours. You can call either of these numbers to have your name added to our mailing list.

SUPPLEMENTARY INFORMATION: This notice initiates the public scoping process for the Environmental Impact Statement (EIS) and land-use plan amendments. The BLM Casper Field Office and USFS Thunder Basin National Grasslands intend to:

• Prepare an EIS to support decision making for the proposed Converse County Oil and Gas Project; and

• Begin the public scoping period to seek input on the preliminary issues identified with respect to this Project. In submitting comments during the scoping period, you should be aware that:

• Authorization of this proposal may require amendments of the 2007 Casper resource management plan or the 2001 Thunder Bay land and resources management plan because resource impacts will likely exceed those analyzed in the existing plans; and .

• A change in circumstances or a proposed action may result in a change in the scope of resources uses or a change in terms, conditions, and decisions of the approved plans for surface disturbance, wildlife, cultural resources, air quality and water quality.

By this notice, the BLM is complying with requirements in 43 CFR 1610.2(c). If land use plan amendments are necessary, the BLM and USFS will integrate the land-use planning processes with the NEPA process for this project.

Where is the proposed project located?

The proposed development project area is located in Converse County and encompasses approximately 1.5 million acres of land, of which approximately 88,000 surface acres (6 percent of the project area) and approximately 965,000 subsurface mineral estate acres (64 percent of the project area) are public lands administered by BLM while USFS manages approximately 64,000 acres of surface (4 percent of the project area) within the project area. The remainder of the project area consists of lands owned by the State of Wyoming and private owners.

What would the project do?

The companies involved propose to develop approximately 5,000 oil and natural gas wells on 1,500 new multi-well pads within the proposed Converse County Oil and Gas Project area over a 10-year period. The companies propose to:

• Develop the project area using directional, vertical, horizontal and other drilling techniques;

• Develop infrastructure to support oil and gas production in the project area including: well pads, roads, pipelines, power lines, compressor and electrical substations, and ancillary facilities, such as water supply wells and water disposal facilities; and

• Request exceptions to multiple timing-limitation restrictions, which serve to protect several wildlife species, in an effort to drill year-round.

Surface disturbance associated with the Converse County Oil and Gas Project proposal is estimated to include 50,000 acres of initial surface disturbance for the construction of new roads, well pads, pipelines and associated facilities, of which approximately 20,000 acres could remain for the life of the project.

How will BLM and USFS evaluate the project?

BLM and USFS will evaluate any authorizations and actions proposed in the EIS to determine if they conform to the decisions in the 2007 Casper resources management plan (RMP) or 2001 Thunder Basin land resources management plan (LRMP). Any proposed actions that would change the scope of resource uses, terms and conditions, and decisions of either plan would require amendment of the affected plan. If we determine that a plan amendment is required, the necessary analysis would occur simultaneously with preparation of the Converse County Oil and Gas Project EIS. The preliminary planning criteria for a necessary plan amendment would include all of the following:

• The amendments will comply with all applicable laws, executive orders, regulations and be consistent with applicable policy.

• The amendments will recognize valid existing rights.

• Lands addressed in the amendments will be public lands (including split estate lands) managed by the BLM and National Forest Service System lands managed by the USFS, respectively.

• Any decisions in the amendments will apply only to Federal lands administered by either the BLM or the USFS.

• A collaborative and multi-jurisdictional approach will be used, where possible, to jointly determine the desired future condition and management direction for the public lands.

• To the extent possible within legal and regulatory parameters, BLM and USFS decisions will complement decisions of other agencies and of State and local governments with jurisdictions intermingled with, and adjacent to, the planning area.

When will public meetings be held?

To provide the public with an opportunity to review the proposed project and the project information, as well as the proposed plan amendments, the BLM will host meetings in Casper, Douglas and Glenrock before June 30, 2014. The BLM will notify the public of meetings and any other opportunities for the public to be involved in the process for this proposal at least 15 days prior to the event. Meeting dates, locations and times will be announced by a news release to the media, individual mailings and postings on the project Web site.

What happens during the scoping process?

The purpose of the public scoping process is to determine relevant issues that will influence the scope of the environmental analysis, including alternatives, and guide the process for developing the EIS. At present, BLM and USFS have identified the following preliminary issues:

• Potential effects on air quality; historic trails; socioeconomic; vegetation; water resources; wildlife habitat, including Greater Sage-Grouse and Greater Sage-Grouse Core Habitat Areas.

• Possible use of hierarchical mitigation strategies, if applicable and appropriate to the project and potential amendment. Mitigation strategies include avoidance, minimization or compensation, for on-site, regional, and other mitigation strategies.

• Identification of areas appropriate for landscape-level conservation and management actions to achieve regional mitigation objectives (e.g. ACECs, priority habitat, etc.).

The project will incorporate all elements of the present Greater Sage-Grouse planning efforts and decisions and look to further mitigate impacts of the project by monitoring and evaluations as the project is implemented.

How will the comment process work?

BLM and USFS will use and coordinate the National Environmental Protection Act (NEPA) commenting process to help fulfill the public involvement process under section 106 of the National Historic Preservation Act (NHPA) (16 U.S.C. 470f), as provided for in 36 CFR 800.2(d)(3). The information about historic and cultural resources within the area potentially affected by the proposed action will assist BLM and USFS in identifying and evaluating impacts to such resources in the context of both NEPA and section 106 of the NHPA.

Native American tribal consultations will be conducted in accordance with policy, and tribal concerns will be given due consideration. Federal, State, and local agencies, along with other stakeholders that may be interested or affected by the BLM's or USFS's decisions on this project, are invited to participate in the scoping process and, if eligible, may request or be requested by the BLM to participate as a cooperating agency.

How will comments be evaluated?

The Forest Service will be operating under the new requirements in 36 CFR part 218 Subparts A and B for this project. Per these regulations, anyone submitting timely, specific written comments regarding a proposed project or activity during any designated opportunity for public comments will have standing to file an objection. This includes requests for comments during this initial scoping period as well as comments submitted during the 45-day comment period for the Draft EIS.

It is the responsibility of persons providing comments to submit them by the close of established comment periods. Only those who submit timely and specific written comments will have eligibility (36 CFR 218.5) to file an objection under 36 CFR 218.8. For objection eligibility, each individual or representative from each entity submitting timely and specific written comments must either sign the comment or verify identity upon request. Individuals and organizations wishing to be eligible to object must meet the information requirements in § 218.25(a)(3).

Before including your address, phone number, email address or other personal identifying information in your comment, you should be aware that your entire comment—including your personal identifying information—may be made publicly available at any time. While you may ask us in your comment to withhold your personal identifying information from public review, we cannot guarantee that we will be able to do so.

Authority: 40 CFR 1501.7, 43 CFR 1610.2.

Larry Claypool,
Acting State Director, Bureau of Land Management Wyoming State Office.
Phil Cruz,
Forest Supervisor, United States Forest Service.

[FR Doc. 2014-11423 Filed 5-15-14; 8:45 am]

BILLING CODE 4310-22-P